DEPARTMENT OF HEALTH AND HUMAN SERVICES

National Institutes of Health

National Cancer Institute; Amended Notice of Meeting

Notice is hereby given of a change in the meeting of the National Cancer Institute Special Emphasis Panel, January 27, 2015, 09:00 a.m. to January 27, 2015, 12:00 p.m., National Cancer Institute Shady Grove, 9609 Medical Center Drive, Rockville, MD 20850 which was published in the Federal Register on December 31, 2014, 79 FR 78879.

The meeting notice is amended to change the start time from 9:00 a.m. to 10:00 a.m. The meeting is closed to the public.

Dated: January 28, 2015.
Melanie J. Gray,
Program Analyst, Office of Federal Advisory Committee Policy.

[FR Doc. 2015-01985 Filed 2-2-15; 8:45 am]

BILLING CODE 4140-01-P